NUCLEAR REGULATORY COMMISSION

Regulatory Guide; Issuance, Availability

The Nuclear Regulatory Commission has issued a new guide in its Regulatory Guide Series. This series has been developed to describe and make available to the public such information as methods acceptable to the NRC staff for implementing specific parts of the Commission's regulations, techniques used by the staff in evaluating specific problems or postulated accidents, and data needed by the staff in its review of applications for permits and licenses.

Regulatory Guide 1.191, “Fire Protection Program for Nuclear Power Plants During Decommissioning and Permanent Shutdown,” provides guidance to licensees and applicants on methods acceptable to the NRC staff for complying with the regulations regarding fire protection programs for licensees who have certified that their plants have permanently ceased operations and that the fuel has been permanently removed from the reactor vessels.

Comments and suggestions in connection with items for inclusion in guides currently being developed or improvements in all published guides are encouraged at any time. Written comments may be submitted to the Rules and Directives Branch, Division of Administrative Services, Office of Administration, U.S. Nuclear Regulatory Commission, Washington, DC 20555.

Regulatory guides are available for inspection or downloading at the NRC's web site at www.rnc.gov under Regulatory Guides and in NRC's Electronic Reading Room (ADAMS System) at the same site; Regulatory Guide 1.191 is under Accession Number ML011500010. Single copies of regulatory guides may be obtained free of charge by writing the Reproduction and Distribution Services Section, U.S. Nuclear Regulatory Commission, Washington, DC 20555-0001, or by fax to (301)415-2289, or by email to distribution@nrc.gov. Issued guides may also be purchased from the National Technical Information Service on a standing order basis. Details on this service may be obtained by writing NTIS, 5285 Port Royal Road, Springfield, VA 22161. Regulatory guides are not copyrighted, and Commission approval is not required to reproduce them.

Authority: (5 U.S.C. 552(a)).

Dated at Rockville, Maryland, this 25th day of May 2001.
For the Nuclear Regulatory Commission.
Roy P. Zimmerman,
Deputy Director, Office of Nuclear Regulatory Research.

[FR Doc. 01-14356 Filed 6-6-01; 8:45 am]

BILLING CODE 7590-01-P